DEPARTMENT OF STATE

[Public Notice 9082]

Culturally Significant Objects Imported for Exhibition Determinations: “Van Gogh: Irises and Roses” and “Masterpiece in Focus: Van Gogh”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the object to be included in the exhibition “Van Gogh: Irises and Roses,” at The Metropolitan Museum of Art, and in the exhibition “Masterpiece in Focus: Van Gogh” at the Minneapolis Institute of Arts, imported from abroad for temporary exhibition within the United States, is of cultural significance. The object is imported pursuant to a loan agreement with the foreign owner or custodian. I also determine that the exhibition or display of the exhibit object at The Metropolitan Museum of Art, New York, New York, from on or about May 12, 2015, until on or about August 16, 2015, at the Minneapolis Institute of Arts, Minneapolis, MN, from on or about August 21, 2015, until on or about October 4, 2015, and at possible additional exhibitions or venues yet to be determined, is in the national interest. I have ordered that Public Notice of these Determinations be published in the Federal Register.

FOR FURTHER INFORMATION CONTACT: For further information, including the object list, contact the Office of Public Diplomacy and Public Affairs in the Office of the Legal Adviser, U.S. Department of State (telephone: 202-632-6471; email: section2459@state.gov). The mailing address is U.S. Department of State, L/PD, SA-5, Suite 5H03, Washington, DC 20522-0505.

Dated: March 30, 2015.
Evan Ryan,
Assistant Secretary, Bureau of Educational and Cultural Affairs, Department of State.

[FR Doc. 2015-08310 Filed 4-9-15; 8:45 am]

BILLING CODE 4710-05-P